DEPARTMENT OF JUSTICE

Notice of Lodging of Proposed Consent Decree Under the Comprehensive Environmental Response, Compensation, and Liability Act

On January 2, 2026, the Department of Justice lodged a proposed consent decree with the United States District Court for the Northern District of New York in the lawsuit entitled U.S. v. Amparit Industries LLC, et al., Civil No. 5:26-cv-173.

In that action, the United States sought, pursuant to the Comprehensive Environmental Response, Compensation, and Liability Act (“CERCLA”), 42 U.S.C. 9601, et seq., recovery of response costs regarding the Ley Creek Deferred Media Operable Unit (“Site”) of the Onondaga Lake Superfund Site in Salina and Dewitt, Onondaga County, New York. The proposed consent decree will require six settling defendants to make individual payments totaling $245,300 to the U.S. Environmental Protection Agency for its past and future response costs at the Site.

The publication of this notice opens a period for public comment on the consent decree. Comments should be addressed to the Assistant Attorney General, Environment and Natural Resources Division, and should refer to U.S. v. Amparit Industries LLC, D.J. Ref. No. 90-11-3-08348/9. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the consent decree may be examined and downloaded at this Justice Department website: https://www.justice.gov/enrd/consent-decrees. If you require assistance accessing the consent decree, you may request assistance by email or by mail to the addresses provided above for submitting comments.

Eric D. Albert,
Assistant Section Chief, Environmental Enforcement Section, Environment and Natural Resources Division.

[FR Doc. 2026-02353 Filed 2-5-26; 8:45 am]

BILLING CODE 4410-15-P